DEPARTMENT OF LABOR

Office of the Secretary

Correction Notice; Submission for OMB Review: Comment Request

February 16, 2006.

The Department of Labor (DOL) has submitted the following public information collection request (ICR) to the Office of Management and Budget (OMB) on February 8, 2005 for review and approval in accordance with the Paperwork Reduction Act of 1995 (Pub. L. 104-13, 44 U.S.C. Chapter 35). This notice corrects the title and ETA Form numbers previously incorrectly referenced in the Federal Register Notice of February 14, 2006. The new ETA forms are the ETA 9060 and the ETA 9061. A copy of this ICR, with applicable supporting documentation, may be obtained by calling the Department of Labor. To obtain documentation contact Ira Mills on 202-693-4122 (this is not a toll-free number) or E-Mail: Mills.Ira@dol.gov.

Comments should be sent to Office of Information and Regulatory Affairs, Attn: OMB Desk Officer for ETA, Office of Management and Budget, Room 10235, Washington, DC 20503, 202-395-7316 (this is not a toll free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submission of responses.

Agency: Employment and Training Administration (ETA).

Type of Review: New Collection.

Title: Reemployment and Eligibility Assessment Program

OMB Number: 1205-NEW.

Frequency: Quarterly.

Affected Public: State, Local or Tribal governments.

Type of Response: Reporting.

Number of Respondents: 53.

Annual Responses: 424.

Average Response time: 30 minutes.

Total Annual Burden Hours: 212.

Total Annualized Capital/Startup Costs: 0.

Total Annual Costs (operating/maintaining systems or purchasing services): 0.

Description: The Secretary has interpreted the law to authorize DOL to prescribe standard definitions, methods and procedures, and reporting requirements for the collection of information on benefit payment accuracy and the reemployment of UI benefit recipients to ensure the verification of these data. The ETA 9060 report provides a count of the claimants who were referred to the Reemployment and Eligibility Assessment (REA) program and a count of those who completed the services. The ETA 9061 report provides the subsequent collection of outcome data which is a useful management tool for monitoring the success of the REA program in the state.

Ira L. Mills,
Departmental Clearance Officer.

[FR Doc. E6-2668 Filed 2-23-06; 8:45 am]

BILLING CODE 4510-30-P